DEPARTMENT OF HEALTH AND HUMAN SERVICES

National Institutes of Health

National Heart, Lung, and Blood Institute; Amended Notice of Meeting

Notice is hereby given of a change in the meeting of the National Heart, Lung, and Blood Institute Special Emphasis Panel, November 24, 2008, 8:00 AM to November 24, 2008, 5:00 PM, Bethesda Marriott, 5151 Pooks Hill Road, Bethesda, MD 20814 which was published in the Federal Register on November 3, 2008, FR E8-26098.

The panel name was changed from Research Projects in Lung Failure to Heart, Lung and Blood Supplemental Studies in Clinical Trials. The rest of the information remains the same. The meeting is closed to the public.

Dated: November 10, 2008.
Jennifer Spaeth,
Director, Office of Federal Advisory Committee Policy.

[FR Doc. E8-27262 Filed 11-17-08; 8:45 am]

BILLING CODE 4140-01-P